DEPARTMENT OF THE INTERIOR

National Park Service

[NPS-WASO-NAGPRA-NPS0038475; PPWOCRADN0-PCU00RP14.R50000]

Notice of Intended Repatriation: Portland State University, Portland, OR

AGENCY: National Park Service, Interior.

ACTION: Notice.

SUMMARY: In accordance with the Native American Graves Protection and Repatriation Act (NAGPRA), Portland State University intends to repatriate certain cultural items that meet the definition of sacred objects or objects of cultural patrimony and that have a cultural affiliation with the Indian Tribes or Native Hawaiian organizations in this notice.

DATES: Repatriation of the cultural items in this notice may occur on or after September 12, 2024.

ADDRESSES: Reno Nims, Portland State University, Research & Graduate Studies, P.O. Box 751, Portland, OR 97207, telephone (503) 725-6611, email nagpra@pdx.edu.

SUPPLEMENTARY INFORMATION: This notice is published as part of the National Park Service's administrative responsibilities under NAGPRA. The determinations in this notice are the sole responsibility of Portland State University, and additional information on the determinations in this notice, including the results of consultation, can be found in the summary or related records. The National Park Service is not responsible for the determinations in this notice.

Abstract of Information Available

A total of 71 cultural items have been requested for repatriation. The 63 sacred objects are stone projectile points and stone flakes that were removed from Cascadia Cave (35-LIN-11) in Linn County, OR in 1964 by PSU under the direction of Thomas Newman, a faculty member in the Anthropology Department. These cultural items were identified as sacred objects during NAGPRA Summary consultations in 2023.

The eight objects of cultural patrimony are bone and antler tools that were removed from 35-TI-104, an archaeological site on Bayocean Peninsula in Tillamook County, OR in 1970 by Ron Kent, a PSU master's student in the Anthropology Department. These cultural items were inadvertently excavated from deposits of faunal remains, and subsequently identified as objects of cultural patrimony during NAGPRA Summary consultations in 2022.

Determinations

Portland State University has determined that:

• The 63 sacred objects described in this notice are specific ceremonial objects needed by a traditional Native American religious leader for present-day adherents to practice traditional Native American religion, according to the Native American traditional knowledge of a lineal descendant, Indian Tribe, or Native Hawaiian organization.

• The eight objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Confederated Tribes of Siletz Indians of Oregon; Confederated Tribes of the Grand Ronde Community of Oregon; and the Confederated Tribes of the Warm Springs Reservation of Oregon.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 12, 2024. If competing requests for repatriation are received, Portland State University must determine the most appropriate requestor prior to repatriation. Requests for joint repatriation of the cultural items are considered a single request and not competing requests. Portland State University is responsible for sending a copy of this notice to the Indian Tribes and Native Hawaiian organizations identified in this notice and to any other consulting parties.

Authority: Native American Graves Protection and Repatriation Act, 25 U.S.C. 3004 and the implementing regulations, 43 CFR 10.9.

Dated: August 1, 2024.
Melanie O'Brien,
Manager, National NAGPRA Program.

[FR Doc. 2024-17976 Filed 8-12-24; 8:45 am]

BILLING CODE 4312-52-P